DEPARTMENT OF DEFENSE

Department of the Navy

Notice of Availability of Record of Decision for the Mariana Islands Training and Testing Final Supplemental Environmental Impact Statement/Overseas Environmental Impact Statement

AGENCY: Department of the Navy, DoD.

ACTION: Notice.

SUMMARY: The United States Department of the Navy (DON), after carefully weighing the strategic, operational, and environmental consequences of the Proposed Action, announces its decision to continue training and testing activities as identified in Alternative 2 in the Mariana Islands Training and Testing (MITT) Final Supplemental Environmental Impact Statement/Overseas Environmental Impact Statement (EIS/OEIS), dated June 2020. Under Alternative 2, the U.S. military services and the U.S. Coast Guard will be able to fully meet current and future training and testing requirements.

SUPPLEMENTARY INFORMATION: Alternative 2 is the DON's preferred alternative and includes changes in the types and tempo of training and testing activities at sea and on Farallon de Medinilla to meet current and future military readiness requirements. Alternative 2 reflects the maximum number of training and testing activities that could occur within a given year, and assumes that the maximum number of fleet exercises would occur annually. This alternative allows for the greatest flexibility for the DON to maintain readiness when considering potential changes in the national security environment, fluctuations in training and deployment schedules, and anticipated in-theater demands. The complete text of the Record of Decision (ROD) is available on the project website at www.MITT-EIS.com, along with the June 2020 MITT Final Supplemental EIS/OEIS and supporting documents. Single copies of the ROD are available upon request by contacting: Naval Facilities Engineering Command Pacific, Attn: MITT Supplemental EIS/OEIS Project Manager, 258 Makalapa Drive, Suite 100, Pearl Harbor, HI 96860-3134.

Dated: July 29, 2020.
D.J. Antenucci,
Commander, Judge Advocate General's Corps, U.S. Navy, Federal Register Liaison Officer.

[FR Doc. 2020-16898 Filed 8-6-20; 8:45 am]

BILLING CODE 3810-FF-P